DEPARTMENT OF HOMELAND SECURITY

Coast Guard

[CGD05-04-225]

Implementation of Sector Baltimore

AGENCY: Coast Guard, DHS.

ACTION: Notice of organizational change.

SUMMARY: The Coast Guard announces the stand-up of Sector Baltimore. The Sector Baltimore Commanding Officer has the authority, responsibility and missions of the prior Activities Commander, Captain of the Port (COTP), Officer in Charge, Marine Inspection (OCMI), Federal On Scene Coordinator (FOSC), Federal Maritime Security Coordinator (FMSC), and Search and Rescue Mission Controller (SMC) Baltimore. The Coast Guard has established a continuity of operations whereby all previous practices and procedures will remain in effect until superseded by an authorized Coast Guard official and/or document.

DATES: This notice is effective January 27, 2005.

ADDRESSES: Documents indicated in this preamble as being available in the docket are part of docket CGD05-04-225 and are available for inspection or copying at Fifth District Marine Safety, 431 Crawford Street, Portsmouth, VA 23704 between 7:30 a.m. and 4:30 p.m., Monday through Friday, except Federal holidays.

FOR FURTHER INFORMATION CONTACT: Commander Brian Hall, Fifth District Marine Safety Division at (757) 398-6691.

SUPPLEMENTARY INFORMATION:

Discussion of Notice

Sector Baltimore is located at 2401 Hawkins Point Road, Bldg. 70, Baltimore, MD 21226-1791 and contains a single Command Center. Sector Baltimore is composed of a Response Department, Prevention Department, and Logistics Department. All existing missions and functions performed by Activities Baltimore have been realigned under this new organizational structure as of January 1, 2005. Activities Baltimore no longer exists as an organizational entity. Sector Baltimore is responsible for all Coast Guard missions in the following zone: “the boundary of Sector Baltimore Marine Inspection zone and Captain of the Port zone starts at a point at 75° 30.0′ W. longitude on the Delaware-Maryland boundary and proceeds along the Delaware-Maryland boundary West and North to the Pennsylvania boundary; thence West along the Pennsylvania-Maryland boundary to the West Virginia boundary; thence Southerly and Easterly along the Maryland-West Virginia boundary to the intersection of the Maryland-Virginia-West Virginia boundaries; thence Southwestward along the Loudoun County, Virginia boundary to the intersection with Fauquier County, Virginia; thence Easterly along the Loudoun County, Virginia boundary to the intersection with the Prince William County, Virginia boundary; thence Southerly along the Prince William County boundary to the intersection with Stafford County, Virginia; thence Easterly along the Prince William County, Virginia Boundary to the Maryland-Virginia boundary as those boundaries are formed along the Southern bank of the Potomac River; thence Easterly along the Maryland-Virginia boundary as it proceeds across the Chesapeake Bay, Tangier and Pocomoke Sounds, Pocomoke River, and Delmarva Peninsula to a Point West of the Atlantic Coast on the Maryland-Virginia boundary at a point 75° 30.0′ W. longitude on the Maryland-Virginia boundary; thence Northerly to a point 75° 30.0′ W. longitude on the Delaware-Maryland boundary.” A chart that depicts this area can be found on the Fifth District Web page at http://www.uscg.mil/d5/D5_Units/Sectors.htm.

The Sector Baltimore Commander is vested with all the rights, responsibilities, duties, and authority of a Group/Activities Commander and Commanding Officer, Marine Safety Office, as provided for in Coast Guard regulations, and is the successor in command to the Commanding Officer, Activities Baltimore. The Sector Baltimore Commander is designated: (a) Captain of the Port (COTP) for the Baltimore COTP zone; (b) Federal Maritime Security Coordinator (FMSC); (c) Federal On Scene Coordinator (FOSC) for the Baltimore COTP zone, consistent with the National Contingency Plan; (d) Officer In Charge of Marine Inspection (OCMI) for the Baltimore Marine Inspection Zone and, (e) Search and Rescue Mission Coordinator (SMC). The Deputy Sector Commander is designated alternate COTP, FMSC, FOSC, SMC and Acting OCMI. A continuity of operations order has been issued ensuring that all previous Activities Baltimore practices and procedures will remain in effect until superseded by Commander, Sector Baltimore. This continuity of operations order addresses existing COTP regulations, orders, directives and policies.

The following information is a list of updated command titles, addresses and points of contact to facilitate requests from the public and assist with entry into security or safety zones:

Name: Sector Baltimore.

Address: Commander, U.S. Coast Guard Sector Baltimore, 2401 Hawkins Point Road, Bldg. 70, Baltimore, MD 21226-1791.

Contact: General Number, (410) 576-2561, Sector Commander: CAPT C. Springer; Deputy Sector Commander: CDR J. Burton.

Chief, Prevention Department: (410) 576-2586, Chief, Response Department: (410) 576-2525, Chief, Logistics Department: (410) 576-2546.

Dated: January 18, 2005.
Sally Brice-O'Hara,
Rear Admiral, U.S. Coast Guard, Commander, Fifth Coast Guard District.

[FR Doc. 05-1508 Filed 1-26-05; 8:45 am]

BILLING CODE 4910-15-P